DEPARTMENT OF ENERGY

Hydrogen and Fuel Cell Technical Advisory Committee: Correction

AGENCY: Office of Energy Efficiency and Renewable Energy, Department of Energy.

ACTION: Notice of open meeting: Correction.

SUMMARY: The Department of Energy (DOE) published in the Federal Register on February 13, 2019, a notice of an open meeting for the Hydrogen and Fuel Cell Technical Advisory Committee. The notice is being corrected to change the date of the meeting. Agenda items stay the same.

Correction

In the Federal Register of February 13, 2019, in FR DOC. 2019-002184, on pages 3770-3771, please make the following corrections:

In the DATES heading, third column, first paragraph, first line, please remove, Monday, March 18, 2019; and replace with: Tuesday, March 19, 2019; 8:00 a.m.-6:30 p.m.

In the SUPPLEMENTARY INFORMATION, Public Participation heading, page 3771, first column, first paragraph, nineteenth line, please change date to March 19, 2019.

Signed in Washington, DC, on February 14, 2019.
LaTanya Butler,
Deputy Committee Management Officer.

[FR Doc. 2019-02845 Filed 2-20-19; 8:45 am]

BILLING CODE 6450-01-P